DEPARTMENT OF ENERGY

Federal Energy Regulatory Commission

[Docket Nos. ER07-1289-002; ER07-1289-003; ER07-1289-004; ER07-1289-005; Docket No. EL08-56-000 (consolidated)]

ISO New England Inc.; New Brunswick Power Transmission Corporation, New Brunswick System Operator, and Northern Maine Independent System Administrator v. ISO New England Inc.; Notice of Institution of Proceeding and Refund Effective Date

July 3, 2008.

On July 2, 2008, the Commission issued an order that instituted a proceeding in the above-referenced proceeding, pursuant to section 206 of the Federal Power Act (FPA) 16 U.S.C. 824e, concerning issues stemming from the Maine Electric Power Company Roll-in Proposal (the MEPCO Roll-in Proposal) in ISO New England Inc., 124 FERC ¶ 61,013 (2008).

The refund effective date in the above-docketed proceeding, established pursuant to section 206(b) of the FPA, will be the date of publication of this notice in the Federal Register.

Kimberly D. Bose,
Secretary.

[FR Doc. E8-15790 Filed 7-10-08; 8:45 am]

BILLING CODE 6717-01-P